DEPARTMENT OF TRANSPORTATION

National Highway Traffic Safety Administration

[Docket No. NHTSA-03-15687; Notice 2]

Ford Motor Company; Grant of Application for Temporary Exemption From Federal Motor Vehicle Safety Standard No. 103

We are granting the application by Ford Motor Company (“Ford”) of Dearborn, Michigan, for a temporary exemption from Motor Vehicle Safety Standard (FMVSS) No. 103, Defrosting and Defogging Systems. Ford asserted that compliance would prevent it from selling a motor vehicle whose overall level of safety is at least equal to that of a non-exempted vehicle.

Notice of receipt of the application was published on July 22, 2003, and an opportunity afforded for comment (68 FR 43419).

The Motor Vehicle for Which a Temporary Exemption Is Sought

Ford is the manufacturer of the Lincoln Town Car. It plans to make this model available in a “Ballistic Protection Series (BPS).” The Town Car BPS will be equipped with a windshield that is 40.68 mm thick, as contrasted with the standard Town Car's windshield of 4.9 mm thickness. The company related that “this thickness and the associated heat transfer properties are engineered to provide protection from impacts by certain rifle rounds * * *.” Ford does not envision producing more than 300 Town Car BPS Series in any calendar year.

How the Town Car BPS Fails To Comply With FMVSS No. 103

Paragraph S4.2 of FMVSS No. 103 establishes defrosting requirements for passenger car windshields. Ford related that “At this time clearance of the windshield in the time required under FMVSS 103 S4.2 can only be met with the usage of the washer fluid.” It is also necessary to use the windshield wipers in conjunction with washer fluid in order to clear the windshield.¹

¹ This is permissible under S4.3(d) of FMVSS No. 103.

Arguments Presented by Ford Demonstrating That the Town Car BPS Provides an Overall Level of Safety at Least Equal to a Non-Exempted Motor Vehicle

To maximize the defroster performance, the special windshield of the BPS is equipped with an embedded electrical grid. Ford's laboratory tests show that the windshield can, in fact, be cleared within the time required by S4.2 “by using both the defroster (including the hot air system and the embedded electrical grid in the windshield) and the windshield washer system.” Ford conducted a test on March 19, 2003, and reported use of the solvent and the defroster cleared 100% of Zones A and C in 20 minutes. It advised that “The information provided with the vehicle will advise the vehicle operator to use the combined approach in defrosting the windshield.” However, Ford anticipates that these special purpose vehicles are more likely to be garaged than parked in the open, and that the need to operate the defroster system will be minimal.

Arguments Presented by Ford as to Why a Temporary Exemption Would Be in the Public Interest and Consistent With Objectives of Motor Vehicle Safety

The windshield of the Lincoln Town Car BPS differs from those of armored vehicles produced by other manufacturers in that it will provide “a bullet resistant environment against rifle level threats,” as contrasted with “handgun level” threats. According to Ford, “Customers, including certain agencies of the U.S. Government, have expressed a need for vehicles with this level of protection for vehicle occupants.” Ford argued that its product will enhance the safety “for those individuals that are either government officials or certain other high profile individuals that are at a higher level of risk for terrorist attacks or assassination attempts.” Orders have already been placed by the General Services Administration (GSA) on behalf of two government entities. To emphasize the minimal nature of the noncompliance, Ford enclosed a copy of its test report indicating passage of S4.2 using washer fluid, which has been placed in the docket.

Public Comment Received

We received one anonymous comment which recommended that the petition be denied. In the commenter's view, if the petition is granted, the commenter should also be allowed to drive a nonconforming (imported) vehicle whose overall level of safety is at least equal to that of a nonexempted vehicle. The comment did not address the merits of the petition and we have not considered it relevant in our decision to grant Ford's request.

Our Findings in Granting Ford's Application

Ford has requested a temporary exemption from a Federal motor vehicle safety standard that is intended to assist a vehicle operator in avoiding a crash. Therefore, it is especially important that we consider the possible effect on safety of such an exemption.

Standard No. 103 is, in effect, a de-icing standard rather than a defrosting standard. To provide more uniform and repeatable test results, the SAE specifies that a coating of ice be applied to the windshield before the test begins. The SAE notes (Paragraph 1, SAE Recommended Practice J902a “Passenger Car Windshield Defrosting Systems,” March 1967) that “The time element for ice removal, therefore, is longer than that required to remove frost, which is the prime purpose of the defroster system.” Frost generally forms overnight. Considering Ford's argument that the special-purpose BPS is likely to be garaged rather than parked in the open, the likelihood of frost formation on the BPS windshield is less than that on the windshield of a car that is not parked overnight in a garage.

Section 4.2 of FMVSS No. 103 requires that certain windshield areas be defrosted in a compliance test, as set forth in SAE Recommended Practice J902, “Passenger Car Windshield Defrosting Systems,” August 1964, incorporated by reference. They are called the “critical area” and “entire windshield.” Paragraph S4.2 of Standard No. 103 defines “critical area” as Area C and “entire windshield” as Area A. After 20 minutes of the test, conducted with the defroster system “on full” and the blower “on high,” Area C must be at least 80 percent defrosted and, after 40 minutes, the “entire windshield” shall be at least 95 percent defrosted. Ford has not quantified the extent of its noncompliance using the defroster system alone. However, both Area C and Area A on the BPS windshield are 100% defrosted in 20 minutes with the assistance of the windshield washer system. The petition indicates that solvent was not applied for the full 20 minutes, which would raise the question of capacity of the washer system, but only for a limited period. Ford's Engineering Test Report noted that a “Breakthrough occurred at 12 minutes and 15 seconds, 15 seconds after washer solvent was squirted.” Although Ford did not present these test results specifically as a safety equivalent argument, we note that use of the washer system simultaneously with the defroster system not only resulted in compliance with the minimum performance requirements of Standard No. 103 but also resulted in a quicker clearance of the windshield than the standard requires. In short, an overall level of safety that may be considered at least equal to that of a nonexempted motor vehicle.

Ford's public interest argument is that the level of protection provided by the Town Car BPS is one that is needed for the protection of government or high profile individuals who are potential targets for terrorist attacks or assassination attempts. We concur and note that the vehicle will afford the same protection to the driver as it does to the passenger. It is critical to safety that the operator of a vehicle under attack, which may be speeding to avoid danger, be uninjured and in control of the vehicle. The fact that the GSA has ordered BPS vehicles on behalf of two U.S. government agencies enhances the argument that an exemption would be in the public interest.

In consideration of the foregoing, we hereby find that to require compliance with S4.2 of Standard No. 103 would prevent the applicant from selling a motor vehicle whose overall level of safety is at least equal to that of a non-exempted vehicle, and that a temporary exemption is in the public interest and consistent with objectives of motor vehicle safety. Accordingly, Ford Motor Company is hereby granted NHTSA Temporary Exemption No. EX 03-3 from Paragraph S4.2 of 49 CFR 571.103, Standard No. 103, “Windshield Defrosting and Defogging Systems.” The exemption covers only the Lincoln Town Car Ballistic Protection Series (BPS) and expires on September 1, 2005.

Authority: 49 U.S.C. 30113; delegation of authority at 49 CFR 1.50.

Issued on: October 28, 2003.
Jeffrey W. Runge,
Administrator.

[FR Doc. 03-27506 Filed 10-31-03; 8:45 am]

BILLING CODE 4910-59-P